DEPARTMENT OF ENERGY

Federal Energy Regulatory Commission

Notice of Request To Temporarily Draw Down Jersey Reservoir and Soliciting Comments, Motions To Intervene and Protests

June 30, 2000.

Take notice that the following hydroelectric application has been filed with the Commission and is available for public inspection:

a. Type of Application: Request to temporarily drawn down the Jersey Reservoir, approximately three feet, for project maintenance purposes.

b. Project Number: 2476-018.

c. Date Filed: May 22, 2000.

d. Applicant: Wisconsin Public Service Corporation.

e. Name of Project: Jersey Hydroelectric Project.

f. Location: On the Tomahawk River in Lincoln County, Wisconsin.

g. Filed Pursuant to: 18 CFR 12.11.

h. Applicant Contact: Charles Schrock, Senior V.P. Energy Supply, Wisconsin Public Service Corporation, 700 North Adams Street, Green Bay, WI 54307-9002.

i. FERC Contact: Any questions on this notice should be addressed to Thomas LoVullo, telephone (202) 219-1168 or e-mail address: thomas.lovullo@ferc.fed.us.

j. Deadline for Filing Comments or Motions: August 7, 2000. All comments or motions must be filed by providing an original and eight copies as required by the Commissions regulations to: David P. Boergers, Secretary; Federal Energy Regulatory Commission; 888 First Street, NE; Washington, DC 20426.

k. Description of Request: Wisconsin Public Service Corporation proposes to draw down the Jersey Reservoir, approximately three feet, in order to repair the intake bullnose piers. The draw down is proposed to begin September 5, 2000 at a rate not to exceed one inch per hour. Maintenance construction is anticipated to take approximately four weeks. Refiling the reservoir would begin no later than October 4, 2000 at a rate not to exceed one inch per hour. Minimum flow through the project would be maintained during the refilling of the reservoir. Under normal historic flows, it is anticipated that the reservoir would be returned to operating level of October 6, 2000.

The purpose of this notice is to invite any comments on Wisconsin Public Service Corporation's request to draw down the reservoir to repair the intake piers.

l. Locations of the application: A copy of the application is available for inspection and reproduction at the Commission's Public Reference Room, located at 888 First Street, NE, Room 2A, Washington, D.C. 20426, or by calling (202) 208-1371. The application may be viewed on the web at www.ferc.fed.us/online/rims.htm. Call (202) 208-2222 for assistance. A copy is also available for inspection and reproduction at the address in item h above.

Comments, Protests, Motions to Intervene—Anyone may submit comments, a protest, or a motion to intervene in accordance with the requirements of Rules of Practice and Procedure, 18 CFR 385.210, 211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTESTS”, OR “MOTION OF INTERVENE”, as applicable, and the Project Number of the particular application to which the filing refers. Any of the above-named documents must be filed by providing the original and the number of copies provided by the Commission's regulations to: The Secretary, Federal Energy Regulatory Commission, 888 First Street, NE., Washington, DC 20426. A copy of any motion to intervene must also be served upon each representative of the Applicant specified in the particular application.

David P. Boergers,
Secretary.

[FR Doc. 00-17057 Filed 7-5-00; 8:45 am]

BILLING CODE 6717-01-M